Proclamation 8879 of October 1, 2012

National Substance Abuse Prevention Month, 2012

By the President of the United States of America

A Proclamation

Every day, far too many Americans are hurt by alcohol and drug abuse. From diminished achievement in our schools, to greater risks on our roads and in our communities, to the heartache of lives cut tragically short, the consequences of substance abuse are profound. Yet, we also know that they are preventable. This month, we pay tribute to all those working to prevent substance abuse in our communities, and we rededicate ourselves to building a safer, drug-free America.

By stopping drug use before it starts, we can prevent the disease of addiction and create stronger neighborhoods across our country. My Administration has placed prevention at the heart of our National Drug Control Strategy, promoting a balanced approach that advances evidence-based public health and safety reforms. We have invested in outreach programs that empower young Americans with the facts about substance abuse, and we have worked to stem the tide of prescription drug abuse through education, monitoring, proper disposal, and enforcement. We have also worked to develop a nationwide, community-based prevention system that joins stakeholders at every level of government with local organizations that can deliver local solutions.

All of us can play a role in preventing drug and alcohol abuse. As our children's first teachers, parents and guardians can help by talking to their kids about the dangers of substance abuse. Alongside them, coalitions of teachers, faith-based groups, health care providers, law enforcement officials, and other local leaders are joining together to address substance abuse in their communities. As we observe National Substance Abuse Prevention Month, let us join in those vital efforts and reaffirm our vision for an America where each of us has the fullest opportunity to live in health and happiness.

NOW, THEREFORE, I, BARACK OBAMA, President of the United States of America, by virtue of the authority vested in me by the Constitution and the laws of the United States, do hereby proclaim October 2012 as National Substance Abuse Prevention Month. I call upon all Americans to engage in appropriate programs and activities to promote comprehensive substance abuse prevention efforts within their communities.

IN WITNESS WHEREOF, I have hereunto set my hand this first day of October, in the year of our Lord two thousand twelve, and of the Independence of the United States of America the two hundred and thirty-seventh.

[FR Doc. 2012-24703

Filed 10-3-12; 8:45 am]

Billing code 3295-F3